DEPARTMENT OF THE TREASURY

Office of the Comptroller of the Currency

FEDERAL RESERVE SYSTEM

FEDERAL DEPOSIT INSURANCE CORPORATION

Proposed Agency Information Collection Activities; Comment Request; Correction

AGENCY: Office of the Comptroller of the Currency (OCC), Treasury; Board of Governors of the Federal Reserve System (Board); and Federal Deposit Insurance Corporation (FDIC).

ACTION: Joint notice and request for comment; correction.

SUMMARY: The OCC, the Board, and the FDIC (the agencies) published a notice in the Federal Register, 81 FR 22702 (April 18, 2016), concerning Regulatory Capital Reporting for Institutions Subject to the Advanced Capital Adequacy Framework (FFIEC 101). This document corrects the date cited for the initial reporting of the Legal Entity Identifier by advanced approaches banking organizations from March 31, 2016, to September 30, 2016. This notice also extends the comment due date.

DATES: The comment period for the notice published April 18, 2016 (81 FR 22702) is extended. Comments must be submitted on or before June 27, 2016.

FOR FURTHER INFORMATION CONTACT: For further information about the proposed revisions to regulatory reporting requirements discussed in this notice, please contact any of the agency clearance officers whose names appear below. In addition, copies of the proposed revised FFIEC 101 form and instructions can be obtained at the FFIEC's Web site (http://www.ffiec.gov/ffiec_report_forms.htm).

OCC: Shaquita Merritt, OCC Clearance Officer, (202) 649-5490, or for persons who are deaf or hard of hearing, TTY, (202) 649-5597, Legislative and Regulatory Activities Division, Office of the Comptroller of the Currency, 400 7th Street SW., Washington, DC 20219.

Board: Nuha Elmaghrabi, Federal Reserve Board Clearance Officer, (202) 452-3829, Office of the Chief Data Officer, Board of Governors of the Federal Reserve System, Washington, DC 20551. Telecommunications Device for the Deaf (TDD) users may contact (202) 263-4869, Board of Governors of the Federal Reserve System, Washington, DC 20551.

FDIC: Gary A. Kuiper, Counsel, (202) 898-3877, or Manuel E. Cabeza, Counsel, (202) 898-3767, Federal Deposit Insurance Corporation, 550 17th Street NW., Washington, DC 20429.

Correction

In the Federal Register of April 18, 2016, in FR Doc. 2016-08892, on page 22706, at the 29th line of the third column, remove “March 31, 2016” and add in its place “September 30, 2016”.

Dated: April 20, 2016.
Stuart Feldstein,
Director, Legislative and Regulatory Activities Division, Office of the Comptroller of the Currency.
Board of Governors of the Federal Reserve System, April 20, 2016.
Robert deV. Frierson,
Secretary of the Board.
Dated at Washington, DC, this 19th day of April, 2016.
Federal Deposit Insurance Corporation.
Robert E. Feldman,
Executive Secretary.

[FR Doc. 2016-09871 Filed 4-26-16; 8:45 am]

BILLING CODE 4810-33-6210-01-6714-01-P